DEPARTMENT OF ENERGY

Federal Energy Regulatory Commission

18 CFR Part 40

[Docket No. RM08-3-000; Order No. 716]

Mandatory Reliability Standard for Nuclear Plant Interface Coordination

November 7, 2008.

AGENCY: Federal Energy Regulatory Commission, DOE.

ACTION: Final rule; correction.

SUMMARY: The Federal Energy Regulatory Commission published in the Federal Register of October 27, 2008, a final rule approving the Nuclear Plant Interface Coordination Reliability Standard developed by the North American Electric Reliability Corporation (NERC) and directing NERC to develop a modification the Reliability to address certain concerns. This document corrects references in two footnotes of the final rule.

DATES: Effective Date: November 26, 2008.

FOR FURTHER INFORMATION CONTACT: Richard M. Wartchow (Legal Information), Office of the General Counsel, Federal Energy Regulatory Commission, 888 First Street, NE., Washington, DC 20426, (202) 502-8744.

SUPPLEMENTARY INFORMATION: In FR Document E8-25139, published October 27, 2008 (73 FR 63770) make the following corrections to citations in Footnotes 51 and 60:

1. On page 63781, column 1, Footnote 51, second sentence, change “125 FERC ¶ 61,062.” to “125 FERC ¶ 61,064.”

2. On page 6378, column 2, footnote 60, second sentence, change “125 FERC ¶ 61,062” to “125 FERC ¶ 61,064.”

Nathaniel J. Davis, Sr.,
Deputy Secretary.

[FR Doc. E8-26971 Filed 11-13-08; 8:45 am]

BILLING CODE 6717-01-P